DEPARTMENT OF DEFENSE

Office of the Secretary

Defense Science Board

AGENCY: Department of Defense.

ACTION: Notice of advisory committee meeting date changes.

SUMMARY: On Wednesday, March 26, 2003 (68 FR 14598), the Department of Defense announced closed meetings of the Defense Science Board (DSB) Task Force on Enduring Freedom Lessons Learned. The meetings originally planned for May 14-27, 2003, have been rescheduled for May 14-16, 2003. The meetings will take place at the U.S. Strategic Command, Colorado Springs, CO, and the Pentagon, Washington, DC.

Dated: May 9, 2003.
Patricia L. Toppings,
Alternate OSD Federal Register Liaison Officer, Department of Defense.

[FR Doc. 03-12411 Filed 5-16-03; 8:45 am]

BILLING CODE 5001-08-M